Proclamation 10838 of October 11, 2024

Columbus Day, 2024

By the President of the United States of America

A Proclamation

Today, we celebrate the proud heritage of Italian Americans in our Nation, whose contributions and character have shaped our country's soul.

I believe we are the only Nation in the world with a heart and soul that draws from old and new. For some Italian-American families, the stories they share about their ancestors' lives in this country stretch back generations. They are stories about immigrants who left everything behind to sail across an ocean and chase the American Dream for the hope of a brighter future. They are stories about ancestors who helped build this country and found America's middle class—and their traditions and recipes still bring joy to their families today. They are stories of Italian-American artists, laborers, lawmakers, and leaders who never gave up on the idea of America. And for many Italian Americans, the story of Christopher Columbus' voyage crossing the Atlantic from the Spanish port of Palos de la Frontera on behalf of Queen Isabella I and King Ferdinand II remains a source of pride. But no matter if their families arrived here centuries ago or only recently, Italian Americans' courage, strength, and character are woven into the rich tapestry of our country.

For many Italian Americans, the lives of their ancestors in this country were not always easy. In addition to the challenges of starting life in a new land, they also faced discrimination. Columbus Day was founded by President Benjamin Harrison in 1892 in response to the horrific, xenophobic attack that took the lives of 11 Italian Americans the year before. In the face of hate, Italian Americans persisted—advancing our Nation and challenging us to live up to our highest values.

My Administration also recognizes that Italian Americans are a source of strength in our country's unshakeable alliance, strategic partnership, and deep friendship with Italy. The ties between our countries are founded on our shared values and principles: democracy, freedom, and respect for human rights. Both of our nations take pride in standing with the brave people of Ukraine as they defend themselves against Russia's illegal aggression.

Today, may we honor the history and heritage of Italian Americans and all that they have done to help realize the full promise of America for generations.

In commemoration of Christopher Columbus' historic voyage 532 years ago, the Congress, by joint resolution of April 30, 1934, and modified in 1968 (36 U.S.C. 107), as amended, has requested the President proclaim the second Monday of October of each year as “Columbus Day.”

NOW, THEREFORE, I, JOSEPH R. BIDEN JR., President of the United States of America, do hereby proclaim October 14, 2024, as Columbus Day. I direct that the flag of the United States be displayed on all public buildings on the appointed day in honor of our diverse history and all who have contributed to shaping this Nation.

IN WITNESS WHEREOF, I have hereunto set my hand this eleventh day of October, in the year of our Lord two thousand twenty-four, and of the Independence of the United States of America the two hundred and forty-ninth.

[FR Doc. 2024-24140

Filed 10-16-24; 8:45 am]

Billing code 3395-F4-P